DEPARTMENT OF ENERGY

Federal Energy Regulatory Commission

Combined Notice of Filings #1

Take notice that the Commission received the following electric corporate filings:

Docket Numbers: EC25-76-000.

Applicants: Interstate Gas Supply, LLC, Hudson Energy Services, LLC, Just Energy New York Corp., Just Energy Pennsylvania Corp., Just Energy Solutions Inc., Just Energy Texas I Corp., Just Energy Illinois Corp., Just Energy Limited.

Description: Joint Application for Authorization Under Section 203 of the Federal Power Act of Interstate Gas Supply, LLC, et al.

Filed Date: 4/10/25.

Accession Number: 20250410-5219.

Comment Date: 5 p.m. ET 5/1/25.

Take notice that the Commission received the following exempt wholesale generator filings:

Docket Numbers: EG25-284-000.

Applicants: Pine Forest Solar I, LLC.

Description: Pine Forest Solar I, LLC submits Notice of Self-Certification of Exempt Wholesale Generator Status.

Filed Date: 4/14/25.

Accession Number: 20250414-5020.

Comment Date: 5 p.m. ET 5/5/25.

Docket Numbers: EG25-285-000.

Applicants: Pine Forest Hybrid I, LLC.

Description: Pine Forest Hybrid I, LLC submits Notice of Self-Certification of Exempt Wholesale Generator Status.

Filed Date: 4/14/25.

Accession Number: 20250414-5022.

Comment Date: 5 p.m. ET 5/5/25.

Docket Numbers: EG25-286-000.

Applicants: Brazoria Solar I, LLC.

Description: Brazoria Solar I, LLC submits Notice of Self-Certification of Exempt Wholesale Generator Status.

Filed Date: 4/14/25.

Accession Number: 20250414-5148.

Comment Date: 5 p.m. ET 5/5/25.

Take notice that the Commission received the following electric rate filings:

Docket Numbers: ER21-1111-007.

Applicants: Alabama Power Company.

Description: Compliance filing: Southeast EEM Agreement Compliance Filing to be effective 4/15/2025.

Filed Date: 4/14/25.

Accession Number: 20250414-5062.

Comment Date: 5 p.m. ET 5/5/25.

Docket Numbers: ER25-1317-001.

Applicants: Salt Creek Wind LLC.

Description: Tariff Amendment: Salt Creek Wind LLC submits tariff filing per 35.17(b): Errata to Application for Market-Based Rate Authorization (ER25-1317-) to be effective 4/16/2025.

Filed Date: 4/14/25.

Accession Number: 20250414-5095.

Comment Date: 5 p.m. ET 4/24/25.

Docket Numbers: ER25-1944-000.

Applicants: PJM Interconnection, L.L.C.

Description: § 205(d) Rate Filing: Original CSA, Service Agreement No. 7637; AG1-107/AF2-440 to be effective 3/25/2025.

Filed Date: 4/11/25.

Accession Number: 20250411-5202.

Comment Date: 5 p.m. ET 5/2/25.

Docket Numbers: ER25-1945-000.

Applicants: Massachusetts Electric Company.

Description: § 205(d) Rate Filing: 2024 Rate Update Filing for Massachusetts Electric Borderline Sales Agreement to be effective 3/1/2024.

Filed Date: 4/11/25.

Accession Number: 20250411-5203.

Comment Date: 5 p.m. ET 5/2/25.

Docket Numbers: ER25-1946-000.

Applicants: PJM Interconnection, L.L.C.

Description: § 205(d) Rate Filing: Original CSA, Service Agreement No. 7628; AG1-107/AF2-440 to be effective 3/12/2025.

Filed Date: 4/11/25.

Accession Number: 20250411-5210.

Comment Date: 5 p.m. ET 5/2/25.

Docket Numbers: ER25-1947-000.

Applicants: PJM Interconnection, L.L.C.

Description: § 205(d) Rate Filing: Amendment to WMPA No. 6423; Queue No. AG1-197 to be effective 6/14/2025.

Filed Date: 4/14/25.

Accession Number: 20250414-5034.

Comment Date: 5 p.m. ET 5/5/25.

Docket Numbers: ER25-1948-000.

Applicants: PJM Interconnection, L.L.C.

Description: § 205(d) Rate Filing: Amendment to WMPA, Service Agreement No. 7022; Queue No. AG1-478 to be effective 6/14/2025.

Filed Date: 4/14/25.

Accession Number: 20250414-5039.

Comment Date: 5 p.m. ET 5/5/25.

Docket Numbers: ER25-1949-000.

Applicants: NorthWestern Corporation.

Description: § 205(d) Rate Filing: SA#767 Twelfth Revised—Basin NITSA_NOA to be effective 4/15/2025.

Filed Date: 4/14/25.

Accession Number: 20250414-5079.

Comment Date: 5 p.m. ET 5/5/25.

Docket Numbers: ER25-1950-000.

Applicants: Alabama Power Company, Georgia Power Company, Mississippi Power Company.

Description: Tariff Amendment: Alabama Power Company submits tariff filing per 35.15: Horus Alabama 1 (Alawest 1 Solar) LGIA Termination Filing to be effective 4/14/2025.

Filed Date: 4/14/25.

Accession Number: 20250414-5105.

Comment Date: 5 p.m. ET 5/5/25.

Docket Numbers: ER25-1951-000.

Applicants: Alabama Power Company, Georgia Power Company, Mississippi Power Company.

Description: Tariff Amendment: Alabama Power Company submits tariff filing per 35.15: Horus Alabama 1 (Alawest 2 Solar) LGIA Termination Filing to be effective 4/14/2025.

Filed Date: 4/14/25.

Accession Number: 20250414-5106.

Comment Date: 5 p.m. ET 5/5/25.

Docket Numbers: ER25-1952-000.

Applicants: PJM Interconnection, L.L.C.

Description: Tariff Amendment: Notice of Cancellation of CSA, SA No. 6739; Queue No. AC2-090 to be effective 4/2/2025.

Filed Date: 4/14/25.

Accession Number: 20250414-5113.

Comment Date: 5 p.m. ET 5/5/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: April 14, 2025.
Carlos D. Clay,
Deputy Secretary.

[FR Doc. 2025-06677 Filed 4-17-25; 8:45 am]

BILLING CODE 6717-01-P